DEPARTMENT OF TRANSPORTATION

Surface Transportation Board

[STB Finance Docket No. 34312]

Big 4 Terminal Railroad Corporation—Acquisition and Operation Exemption—Wabash Central Railroad Corporation

Big 4 Terminal Railroad Corporation (Big 4), a noncarrier, has filed a verified notice of exemption under 49 CFR 1150.31 to acquire from Wabash Central Railroad Corporation (WBRC) and operate approximately 1.5 miles of rail line currently owned by RMW Ventures, L.L.C. (RMW) ¹ and currently operated by WBRC.² Big 4 is seeking to sublease and operate the following track, terminal facilities, and properties at or near Craigville, Wells County, IN: A 40 foot right-of-way being 20 feet of either side of the center line of the main track from milepost 117 (Railroad Valuation Station #6177 + 60) to milepost 118.53 (Railroad Valuation Station #6258 + 14) on the east side of County Road #204N, together with all connecting spur and yard tracks. Big 4 will connect with WBRC and conduct terminal switching operations at Craigville in order to improve switching service to shippers served by these facilities. WBRC will continue to operate over the remaining portion of the line.

¹ The line was formerly owned by Wabash Central, L.L.C., a Class III rail carrier. In RMW Ventures, L.L.C.-Corporate Family Transaction Exemption-C&NC, L.L.C., Maumee & Western, L.L.C., and Wabash Central, L.L.C., STB Finance Docket No. 33541 (STB served Mar. 10, 1998), Wabash Central, L.L.C., along with two other Class III rail carriers, was merged into RMW.

² In 1998, WBRC acquired operating rights over a 26.4-mile line of railroad, including the segment involved here, and incidental trackage rights between Craigville, IN (milepost 117.8), and Van Buren, IN (milepost 108.6). See Wabash Central Railroad Corporation-Operation Exemption-Wabash Central, L.L.C., STB Finance Docket No. 33536 (STB served Jan. 16, 1998).

The effective date of the exemption was January 30, 2003 (7 days after the notice was filed) and the parties expected to consummate the transaction on or after January 31, 2003.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34312, must be filed with the Surface Transportation Board, 1925 K Street, NW., Washington, DC 20423-0001. In addition, a copy of each pleading must be served on Richard R. Wilson, 127 Lexington Avenue, Suite 100, Altoona, PA 16601.

Board decisions and notices are available on our Web site at WWW.STB.DOT.GOV.

Decided: February 12, 2003.
By the Board, David M. Konschnik, Director, Office of Proceedings.
Vernon A. Williams,
Secretary.

[FR Doc. 03-3949 Filed 2-18-03; 8:45 am]

BILLING CODE 4915-00-P